DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection comprising the Nursery and Christmas Tree Production Survey and the Nursery and Floriculture Chemical Use Survey. Revision to burden hours may be needed due to changes in the size of the target population, sampling design, and/or questionnaire length.

DATES: Comments on this notice must be received by July 16, 2007 to be assured of consideration.

ADDRESSES: You may submit comments, identified by docket number 0535-0244, by any of the following methods:

• E-mail: gmcbride@nass.usda.gov. Include docket number above in the subject line of the message.

• Fax: (202) 720-6396.

• Mail: Mail any paper, disk, or CD-ROM submissions to: Ginny McBride, NASS Clearance Officer, U.S. Department of Agriculture, Room 5336 South Building, 1400 Independence Avenue, SW., Washington, DC 20250-2024.

• Hand Delivery/Courier: Hand deliver to: Ginny McBride, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: Nursery and Christmas Tree Production Survey and Nursery and Floriculture Chemical Use Survey.

OMB Control Number: 0535-0244.

Expiration Date of Approval: September 30, 2007.

Type of Request: To revise and extend a currently approved information collection.

Abstract: The primary objective of the National Agricultural Statistics Service is to prepare and issue State and national estimates of crop and livestock production, prices, and disposition, as well as environmental statistics. This includes estimates of production and value of key nursery products and chemical use by nursery and floriculture production operations.

• As nursery production continues to be one of the fastest growing segments of American agriculture, the Nursery Production and Christmas Tree Survey will update the production and economic contribution of the nursery industry to U.S. agriculture every 3 years by conducting a census of nursery and greenhouse operations with sales over $10,000 in the 17 major producing States. These operations will receive the production questionnaire by mail with telephone and personal interview follow-up for non-response.

• The Nursery and Floriculture Chemical Use Survey, also conducted every 3 years, measures chemical use related to the production of nursery and floriculture crops in six major producing States. The resulting publication, part of the NASS series on Agricultural Chemical Usage, summarizes rates of application, total amount of active ingredients applied, and use of pest management practices. NASS collects on-farm chemical use data to enhance the quality of information used in the evaluation of issues related to agricultural chemicals, including pesticide registrations. Pest management data are used to measure integrated pest management adoption levels and evaluate the impact of alternative pesticide regulations, policies, and practices. A sample of nursery and floriculture operations with sales over $10,000 in the major States will be personally interviewed, since chemical use data are not accurately collected by telephone or mail.

• A separate nursery production survey is conducted every year only in Oregon.

Authority: These data will be collected under authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995, 44 U.S.C. 3506(c)(2)(A), and Office of Management and Budget regulations at 5 CFR part 1320 (60 FR 44978, August 29, 1995).

Estimate of Burden: Based on previous data collected, the Nursery and Christmas Tree Production Survey questionnaire is expected to average 35 minutes per respondent. Based on previous data, the Nursery and Floriculture Chemical Use Survey questionnaire is estimated questionnaire average 45 minutes per respondent.

Respondents: Producers of nursery, greenhouse, and floriculture products.

Estimated Annual Number of Respondents: (Nursery Production Survey at 13,000 respondents × annual frequency of 1/3) + (Chemical Use Survey at 4,200 × frequency of 1/3) + (Oregon Production Survey at 700 × frequency of 1.0) = approximately 6,500.

Estimated Total Annual Burden on Respondents: 4,000 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be included in the request for OMB approval.

Signed at Washington, DC, April 20, 2007.
Joseph T. Reilly,
Associate Administrator.

[FR Doc. E7-9240 Filed 5-14-07; 8:45 am]

BILLING CODE 3410-20-P